DEPARTMENT OF COMMERCE

National Oceanic and Atmospheric Administration

50 CFR Part 665

[Docket No. 070207026-7079-02; I.D. 012207A]

RIN 0648-AS29

Fisheries in the Western Pacific; Optional Use of Electronic Logbook Forms

AGENCY: National Marine Fisheries Service (NMFS), National Oceanic and Atmospheric Administration (NOAA), Commerce.

ACTION: Final rule.

SUMMARY: This final rule allows participants in U.S. domestic pelagics, crustaceans, bottomfish and seamount groundfish, precious corals, and coral reef ecosystems fisheries of the western Pacific region the optional use of NMFS-approved electronic logbook forms in lieu of paper logbooks. This action is intended to enhance the efficiency of fish catch and effort data reporting and recordkeeping by fishermen, reduce human error, and improve data accuracy.

DATES: This final rule is effective May 17, 2007.

ADDRESSES: Copies of the fishery management plans (FMPs) and the regulatory amendment may be obtained from Kitty M. Simonds, Executive Director, Western Pacific Fishery Management Council (Council), 1164 Bishop Street, Suite 1400, Honolulu, HI 96813, or via the World Wide Web at www.wpcouncil.org. Written comments regarding the burden-hour estimates or other aspects of the collection-of-information requirements contained in this final rule may be submitted to William L. Robinson, Regional Administrator, NMFS Pacific Islands Region (PIR), 1601 Kapiolani Blvd. Suite 1110, Honolulu, HI 96814, and by e-mail to David Rostker, David_Rostker@omb.eop.gov or fax to (202) 395-7285.

FOR FURTHER INFORMATION CONTACT: Bob Harman, NMFS PIR, (808) 944-2271.

SUPPLEMENTARY INFORMATION:

Electronic Access

This Federal Register document is also accessible via the World Wide Web at the Office of the Federal Register: www.gpoaccess.gov/fr/index.html.

Background

The NMFS Pacific Islands Region encompasses western Pacific Federal waters, i.e., the 200-nautical mile U.S. Exclusive Economic Zone (EEZ), around the Territories of Guam and American Samoa, the State of Hawaii, the Commonwealth of the Northern Mariana Islands, and other U.S. island possessions in the Pacific. Western Pacific fisheries are currently managed under five fishery management plans (FMPs)--Pelagics, Crustaceans, Bottomfish and Seamount Groundfish, Precious Corals, and Coral Reef Ecosystems.

Current regulations (50 CFR 665.14) require permit holders, who fish for western Pacific management unit species and who are subject to Federal reporting requirements, to record their catch and effort information on paper logbook forms and submit them to NMFS. Maintaining paper logbook forms, and the interpretation of such forms, is subject to potential errors due to illegible handwriting and missed data entry. The availability and capacity of personal computers offer benefits to fishery participants and NMFS data collection programs. The optional use of electronic logbook data collection systems would utilize existing and emerging technologies to enhance the efficiency of fish catch and effort data reporting and recordkeeping by fishermen, reduce human error, and improve data accuracy. Furthermore, if transmitted through a remote communication system such as electronic mail or vessel monitoring system, electronic reporting provides a near real-time catch reporting system.

At its 123rd meeting in June 2004, the Council took final action to recommend amending the western Pacific regulations to provide fishermen an alternative to the currently-required paper logbook forms. Specifically, fishermen would be allowed to submit logbook data to NMFS on removable non-paper media (such as diskette, CD-ROM, memory stick, etc.), and would also be allowed to transmit the data to NMFS via e-mail or other remote communication systems, where such remote transmission was appropriate and feasible. The option to use electronic logbook forms would be available to fishermen who are subject to Federal reporting requirements under all western Pacific FMPs, as well as those participants in fisheries that may become subject to Federal reporting requirements.

This action does not establish the technical requirements or protocols for the electronic logbook program. It is, however, the initial step for program implementation. The technical and legal specifications and operational details for the electronic logbook software program and hardware requirements will be developed and published by NMFS subsequent to this final rule.

Additional background information on this final rule may be found in the preamble to the proposed rule (72 FR 7853) published on February 21, 2007, and is not repeated here.

Comments and Responses

On February 21, 2007, NMFS published in the Federal Register a proposed rule (72 FR 7853). The comment public comment period ended on March 23, 2007. NMFS received two comments on the proposed rule as follows:

Comment 1: Electronic logbooks offer a means of achieving greater efficiency and effectiveness in reporting fishery information.

Response: NMFS notes further that electronic data reporting has the potential to greatly reduce errors and costs.

Comment 2: Computer systems aboard fishing vessels are typically not designed for the rigors of use at sea. The effectiveness of an electronic logbook reporting program, therefore, is conditional to frequent power disruptions and unreliability of at-sea computer systems.

Response: NMFS recognizes the problems associated with using computers at sea, and will consider reliability, operational conditions, and associated issues when developing the technical specifications for approved electronic reporting systems. The difficulties of employing computers for fisheries data reporting is a reason that NMFS is implementing this final rule as an optional alternative to paper logbooks, and paper logbooks will continue to be accepted.

Changes to the Proposed Rule

No changes to the proposed rule were made in this final rule.

Classification

The Regional Administrator, NMFS PIR, has determined that this regulatory amendment is necessary for the conservation and management of the affected fisheries and that it is consistent with the Magnuson-Stevens Fishery Conservation and Management Act and other applicable laws.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification, or the economic impacts of the proposed rule. As a result, a regulatory flexibility analysis was not required and none was prepared.

This final rule contains amendments to collection-of- information requirements subject to the Paperwork Reduction Act (PRA) and which has been approved by the Office of Management and Budget (OMB) under control number 0648-0214. The public reporting burden for this collection-of-information is estimated to average five minutes per response, including the time for reviewing instructions, searching existing data sources, gathering and maintaining the data needed, and completing and reviewing the collection-of-information. Send comments regarding this burden estimate, or any other aspects of this data collection, including suggestions for reducing the burden, to William L. Robinson (see ADDRESSES), or by email to David_Rostker@omb.eop.gov or fax to (202) 395-7285.

Notwithstanding any other provision of the law, no person is required to respond to, nor shall any person be subject to a penalty for failure to comply with, a collection-of-information subject to the requirements of the PRA, unless that collection-of-information displays a currently valid OMB control number.

List of Subjects in 50 CFR Part 665

Administrative practice and procedure, American Samoa, Fisheries, Fishing, Guam, Hawaii, Hawaiian Natives, Northern Mariana Islands, Pacific Remote Island Areas, Reporting and recordkeeping requirements.

Dated: April 11, 2007.
Samuel D. Rauch III,
Deputy Assistant Administrator for Regulatory Programs, National Marine Fisheries Service.

For the reasons set out in the preamble, 50 CFR part 665 is amended as follows:

PART 665—FISHERIES IN THE WESTERN PACIFIC

1. The authority citation for part 665 continues to read as follows:

Authority: 16 U.S.C. 1801 et seq.

2. In § 665.14, revise paragraph (a) to read as follows:

§ 665.14 Reporting and recordkeeping.

(a) Fishing record forms. The operator of any fishing vessel subject to the requirements of §§ 665.21, 665.41, 665.61(a)(4), 665.81, or 665.602 must maintain on board the vessel an accurate and complete record of catch, effort, and other data on paper report forms provided by the Regional Administrator, or electronically as specified and approved by the Regional Administrator. All information specified by the Regional Administrator must be recorded on paper or electronically within 24 hours after the completion of each fishing day. The logbook information, reported on paper or electronically, for each day of the fishing trip must be signed and dated or otherwise authenticated by the vessel operator in the manner determined by the Regional Administrator, and be submitted or transmitted via an approved method as specified by the Regional Administrator, and as required by this paragraph (a). The operator of any vessel subject to the requirements of §§ 665.21, 665.41, 665.61(a)(4), or 665.81 must submit the original logbook information for each day of the fishing trip to the Regional Administrator within 72 hours of each landing of management unit species, unless the fishing was authorized under a PRIA troll and handline permit, a PRIA crustaceans fishing permit, a PRIA bottomfish permit, or a PRIA precious corals fishing permit, in which case the original logbook form for each day of fishing within the PRIA EEZ waters must be submitted to the Regional Administrator within 30 days of each landing of management unit species. For fisheries managed under § 665.602, the original logbook information for each day of the fishing trip must be submitted to the Regional Administrator within 30 days of each landing of management unit species.

* * * * *

[FR Doc. E7-7291 Filed 4-16-07; 8:45 am]

BILLING CODE 3510-22-S